DEPARTMENT OF EDUCATION

Privacy Act of 1974; System of Records

AGENCY: Office of Special Education and Rehabilitative Services and Office of Elementary and Secondary Education, U.S. Department of Education.

ACTION: Notice of a modified system of records; and, rescindment of a system of records notice.

SUMMARY: In accordance with the Privacy Act of 1974, as amended (Privacy Act), the Department of Education (Department) publishes this notice of a modified system of records entitled the “Personnel Development Program Data Collection System (PDPDCS)” (18-16-04), formerly named the “Special Education—Individual Reporting on Regulatory Compliance Related to the Personnel Development Program's Service Obligation and the Government Performance and Results Act of 1993 (GPRA),” and this rescindment of a system of records notice entitled “Indian Education—Individual Reporting on Regulatory Compliance Related to the Indian Education Professional Development program's Service Obligation and the Government Performance and Results Act of 1993 (GPRA)” (18-14-05).

DATES: Submit your comments on this notice of a modified system of records and this rescindment of a system of records notice on or before August 9, 2019.

This modified system of records and rescinded system of records will become applicable upon publication in the Federal Register on July 10, 2019. New routine use (10) and modified routine uses (1), (2), (3), (5), and (9) listed under the section entitled “ROUTINE USES OF RECORDS MAINTAINED IN THE SYSTEM, INCLUDING CATEGORIES OF USERS AND PURPOSES OF SUCH USES” in the modified system of records will become applicable on August 9, 2019, unless the modified system of records notice needs to be changed as a result of public comment. The Department will publish any significant changes resulting from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this modified system of records and rescindment of a system of records notice, address them to: Personnel Development Program Data Collection System Owner, Research to Practice Division, Office of Special Education Programs, Office of Special Education and Rehabilitative Services, U.S. Department of Education, 550 12th Street SW, Washington, DC 20202-2600. Telephone: (202) 245-7395.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Personnel Development Program Data Collection System Manager, Research to Practice Division, Office of Special Education Programs, Office of Special Education and Rehabilitative Services, U.S. Department of Education, 550 12th Street SW, Washington, DC 20202-2600. Telephone: (202) 245-7395.

If you use a telecommunications device for the deaf (TDD) or a text telephone (TTY), you may call the Federal Relay Service (FRS), toll-free, at 1-800-877-8339.

SUPPLEMENTARY INFORMATION: The PDPDCS contains records on individuals who are recipients of funding (scholars ¹) from grants awarded to institutions of higher education (IHEs) and other eligible entities (grantees) by the Office of Special Education and Rehabilitative Services (OSERS), Office of Special Education Programs' (OSEP) Personnel Development to Improve Services and Results for Children with Disabilities Program (Personnel Development Program), the Office of Elementary and Secondary Education (OESE), Office of Indian Education's (OIE) Professional Development discretionary grant program, and the OSERS, Rehabilitation Services Administration's (RSA) Rehabilitation Long-Term Training (RLTT) discretionary grant program.

¹ The Office of Special Education Programs (OSEP) and the Rehabilitation Services Administration (RSA) refer to individuals receiving OSEP and RSA grant funds, respectively, as “scholars.” The Office of Indian Education (OIE) refers to individuals receiving OIE grant funds as “participants.” For purposes of this Notice of a Modified System of Records and this Rescindment of a System of Records Notice, the term “scholars” is used to describe individuals receiving grant funds from OSEP, RSA, or OIE.

The PDPDCS allows the Department to fulfill its responsibility for ensuring grantee and scholar compliance with program requirements. The system also affords registered Department officials read-only access to scholar records to monitor compliance and respond to inquiries.

Through the affected programs, IHEs and other eligible entities provide Department funds to individuals who agree to perform a service obligation. Scholars who do not satisfy their service obligation or other applicable program requirements must repay all or a part of the funding received in accordance with program regulations. The modified system of records announced in this notice is required to track scholars' enrollment, employment, and fulfillment of the terms of their service obligations.

The PDPDCS system of records is being modified to include records on scholars from grants awarded to IHEs and other eligible entities by OESE, OIE's Professional Development, and OSERS, RSA's RLTT discretionary grant programs. As described below, RSA will adopt the PDPDCS to collect data on its training programs. There is no existing system of records for the RSA to track the progress toward completion of a scholar's service obligation.

The Department is modifying the section entitled “SYSTEM NAME AND NUMBER” from “Special Education—Individual Reporting on Regulatory Compliance Related to the Personnel Development Program's Service Obligation and the Government Performance and Results Act of 1993 (GPRA)” (18-16-04) to “Personnel Development Program Data Collection System (PDPDCS)” (18-16-04).

The Department is modifying the section entitled “SECURITY CLASSIFICATION” to indicate that the system is unclassified.

The Department is modifying the section entitled “SYSTEM LOCATION(S)” to reflect the current names and addresses of the contractor and subcontractor who maintain the records in the system.

The Department is modifying the section entitled “SYSTEM MANAGER(S)” to update the title, business address, and contact information of the Department official in Research to Practice Division, OSEP, OSERS, who will serve as the system manager.

The Department is modifying the sections entitled “AUTHORITY FOR MAINTENANCE OF THE SYSTEM,” “PURPOSE(S) OF THE SYSTEM,” “CATEGORIES OF INDIVIDUALS COVERED BY THE SYSTEM,” “CATEGORIES OF RECORDS IN THE SYSTEM,” “RECORD SOURCE CATEGORIES,” and “POLICIES AND PRACTICES FOR STORAGE OF RECORDS” to account for the OIE and RSA records being integrated into the PDPDCS system, in addition to the previously maintained OSEP records.

The section entitled “PURPOSE(S) OF THE SYSTEM” is further being updated to broaden the purposes to include additional purposes of serving as a resource for program improvement and grant monitoring and, informing program and budgetary planning.

Additionally, the Department is modifying the section entitled “CATEGORIES OF RECORDS IN THE SYSTEM” to specify that the record on the number of years a scholar needs to work to satisfy the service obligation must be “in eligible employment;” the Department may ask questions to IHEs, as well as scholars, about topics related to program performance measures; program performance measures may include certification status; and, the Department's contractor will maintain periodic back-ups of records on a web-based data server that collects data on scholars from grantees, scholars, and their employers.

The Department is also modifying the section entitled “RECORD SOURCE CATEGORIES” to update the references to the contractor and subcontractor who implement the web-based data collection system and to clarify that record source categories also may include persons or entities who provide data to the Department under the routine uses set forth in the notice. Additionally, the Department is modifying this section to remove language requiring IHEs and other eligible entities to provide information on scholars who they determine will not fulfill their service obligations because it is the Department's ultimate responsibility to make this determination and this system of records will generate sufficient information for the Department to do so. Finally, the Department is modifying this section to update the name and location of the Department's accounts receivable group to “Accounts Receivables and Bank Management Group” and the “Office of Finance and Operations,” respectively.

The Department is also modifying the section entitled “POLICIES AND PRACTICES FOR STORAGE OF RECORDS” to update references to the Department's contractor and subcontractor; to indicate that a campus and building security system protects hard copy records; and, to explain that the Department's subcontractor maintains the electronic records on its secure server.

The Department is modifying routine use (1) entitled “Program Purposes” to account for the OIE and RSA records being integrated into the PDPDCS system; and, to expand routine use (1)(b) to allow for disclosures to grantees for monitoring, enforcement, or technical assistance related to scholar employment.

The Department is modifying routine use (2) entitled “Disclosure in the Course of Responding to Breach of Data” to permit the Department to disclose records from this system of records in response to a suspected or confirmed breach of the system of records; and, to explain that such disclosures are limited to circumstances where the Department determines that as a result of the suspected or confirmed breach, there is a risk of harm to individuals, the Department (including its information systems, programs, and operations), the Federal Government, or national security.

The Department is modifying routine use (3) entitled “Contract Disclosure” to remove language that referenced imposing safeguard requirements on the contractor “before entering into” the contract and that were required under subsection (m) of the Privacy Act. The modified language clarifies that the Department will require, as part of applicable Department contracts, contractors to whom disclosures are made under this routine use to agree to establish and maintain safeguards to protect the security and confidentiality of the disclosed records.

The Department is removing routine use (4) entitled “Disclosure for Use by Other Law Enforcement Agencies” because the system of records is not used in a law enforcement capacity.

The Department is modifying newly renumbered routine use (5) entitled “Litigation and Alternative Dispute Resolution (ADR) Disclosure” to insert the word “person” in place of the word “individual,” to avoid any public confusion that may have been caused by the Department's prior use of the word “individual” given that this term is defined in the Privacy Act and to clarify that references to “litigation” cover both judicial or administrative litigation.

The Department modified newly renumbered routine use (9) entitled “Research Disclosure” to remove language that referenced Privacy Act safeguards and to clarify that researchers to whom disclosures are made will be required to agree to establish and maintain safeguards to protect the security and confidentiality of the disclosed records.

Pursuant to the requirements in Office of Management and Budget Memorandum M-17-12 entitled “Preparing for and Responding to a Breach of Personally Identifiable Information,” the Department added routine use (10) entitled “Disclosure in Assisting Another Agency in Responding to a Breach of Data” in order to permit the Department to disclose records from this system of records in the course of assisting another Federal agency or entity in responding to a breach of data.

The Department is modifying the section entitled “ADMINISTRATIVE, TECHNICAL, AND PHYSICAL SAFEGUARDS” to specify which Department personnel have access to the system to monitor system improvements and upgrades; to specify a limited number of contractor and subcontractor personnel who have administrative rights, including read and write access, to the system; and, to explain that the system is maintained in accordance with applicable National Institute of Standards and Technology (NIST) standards.

The Department is modifying the sections entitled “RECORD ACCESS PROCEDURES,” “CONTESTING RECORD PROCEDURES,” and “NOTIFICATION PROCEDURES” to define and discuss the “necessary particulars” needed to access, contest, or be notified of a record.

Finally, the Department is adding a section entitled “HISTORY” to comply with the requirements in Office of Management and Budget Circular No. A-108.

In addition, the “Indian Education—Individual Reporting on Regulatory Compliance Related to the Indian Education Professional Development program's Service Obligation and the Government Performance and Results Act of 1993 (GPRA)” (18-14-05) system of records was first published in the Federal Register on January 25, 2011 (76 FR 4334-4338); and, contains records on individuals who are recipients of financial assistance from grants awarded by OESE, OIE's Professional Development program. The Department is rescinding this system of records, with plans for the system's functions and records to be integrated into the PDPDCS.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations at: www.ggovinfo.gov. At this site you can view this document, as well as all other documents of the Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 5, 2019.
Johnny W. Collett,
Assistant Secretary for Special Education and Rehabilitative Services.
Frank T. Brogan,
Assistant Secretary for Office of Elementary and Secondary Education.

For the reasons discussed in the preamble, the Assistant Secretary for Special Education and Rehabilitative Services and the Assistant Secretary for Elementary and Secondary Education, U.S. Department of Education (Department), publishes a notice of a modified and rescinded system of records to read as follows:

RESCINDED SYSTEM NAME AND NUMBER

Indian Education—Individual Reporting on Regulatory Compliance Related to the Indian Education Professional Development program's Service Obligation and the Government Performance and Results Act of 1993 (GPRA) (18-14-05).

HISTORY:

The Indian Education—Individual Reporting on Regulatory Compliance Related to the Indian Education Professional Development program's Service Obligation and the Government Performance and Results Act of 1993 (GPRA) system of records notice was published in the Federal Register on January 25, 2011 (76 FR 4334-4338).

MODIFIED SYSTEM NAME AND NUMBER:

Personnel Development Program Data Collection System (PDPDCS) (18-16-04).

SECURITY CLASSIFICATION:

Unclassified.

SYSTEM LOCATION(S):

(1) Research to Practice Division, Office of Special Education Programs, Office of Special Education and Rehabilitative Services, U.S. Department of Education, 550 12th Street SW, Washington, DC 20202-2600

(2) The Department's contractor, AnLar, maintains records at Westat Inc., 1600 Research Boulevard, Rockville, MD 20850. The contractor also maintains a back-up on a failover server at a redundant data center site in an adjacent location at 1600 Research Boulevard, Rockville, MD 20850.

(3) Computer Security International, 299 Herndon Parkway, VA 20170 is the location of Westat's subcontractor, where nightly back-ups of the server data are stored.

SYSTEM MANAGER(S):

System Manager, Research to Practice Division, Office of Special Education Programs, Office of Special Education and Rehabilitative Services, U.S. Department of Education, 550 12th Street SW, Washington, DC 20202-2600.

AUTHORITY FOR MAINTENANCE 0F THE SYSTEM:

This system of records is authorized for each program office by the following legal authorities:

For the Office of Special Education Programs (OSEP), this system of records is authorized by the Individuals with Disabilities Education Act (IDEA), 20 U.S.C. 1400 et seq., and specifically—

(a) For funding distributed from grants made in Fiscal Year (FY) 2006 and after, 34 CFR 304.23 through 304.30, which implement section 662(h) of IDEA for those fiscal years;

(b) For funding distributed from FY 2005 grants, the notice published in the Federal Register on March 25, 2005 (70 FR 15306), which implements section 662(h) of IDEA for that fiscal year; and

(c) For funding distributed from grants made for FY 2004 and earlier, 34 CFR 304.23 through 304.30 as those regulations existed at that time, which implemented section 673(h) of the version of IDEA that was in effect prior to December 3, 2004.

This system of records is also authorized by section 4 of the Government Performance and Results Act of 1993 (GPRA), Public Law 103-62.

For the Office of Indian Education (OIE), this system of records is authorized by section 6122 of the Elementary and Secondary Education Act of 1965, as amended (ESEA) and the related regulations in 34 CFR part 263, subpart A.

For the Rehabilitation Services Administration (RSA), this system of records is authorized by the Rehabilitation Act of 1973, as amended by title IV of the Workforce Innovation and Opportunity Act (WIOA), which requires program performance measurement and authorizes service obligation, as well as related regulations in 34 CFR parts 385 and 386, et seq.

PURPOSE(S) OF THE SYSTEM:

The information in this system is used for the following purposes: Managing all aspects of the Federal service obligation requirements for those scholars who receive Federal funds through respective OSEP, RSA, and OIE grant programs including debt referrals to the Department's Accounts Receivable and Bank Management Group (ARBMG); providing accountability for resources expended under the OSEP, OIE, and RSA training and personnel development programs in response to the Government Performance and Results Act (GPRA); serving as a resource for program improvement and grant monitoring; and informing program and budgetary planning.

CATEGORIES OF INDIVIDUALS COVERED BY THE SYSTEM:

This system contains records on individuals who are recipients of Department funds from grants awarded to institutions of higher education (IHEs) and other eligible entities by OSEP's Personnel Development Program, OIE's Professional Development discretionary grant program, and RSA's Rehabilitation Long-Term Training (RLTT) discretionary grant program.

CATEGORIES OF RECORDS IN THE SYSTEM:

This system consists of records about scholars who receive funding from OSEP, OIE, and RSA training grants. Information in this system includes contact information for the grantee; the grant identification number; each scholar's name, Social Security number (SSN), address, telephone number, email address, and alternate contact information; name and contact information of a person through whom the scholar can be contacted; the number of years the scholar needs to work in eligible employment to satisfy the service obligation; the total amount of funding received; the time period during which the scholar must satisfy the service obligation; eligible employment to fulfill the service obligation; contact information for employers; and, as applicable, all other obligations of the scholar under the regulations. Employers will be asked to verify the employment information provided by the scholar. In addition, IHEs and scholars may be asked questions about topics related to program performance measures (e.g., specific areas of training, certification status, reasons for leaving the program before completion, gender, ethnic origin, and education history). The contractor maintains periodic back-ups on a web-based data server that collects data on scholars from grantees, scholars, and their employers.

This system of records does not cover records maintained in the Department's system of records notice entitled “Education's Central Automated Processing System (EDCAPS)” (18-04-04) as part of the Department's receivables management function.

RECORD SOURCE CATEGORIES:

For OSEP grants awarded prior to FY 2005 and OIE grants awarded prior to FY 2009, collection of information from IHEs and other eligible entities is limited to identifying information about scholars, their service obligation, and the amount of funding received.

The information for OSEP grants awarded for FY 2005 and after, OIE grants awarded for FY 2009 and after, and RSA grants will be collected from grantees, scholars, and scholars' employers primarily through a web-based data collection system implemented by AnLar, a contractor of the Department, and Westat, a subcontractor of the Department.

Through this system, information related to tracking scholars' enrollment, employment, and fulfillment of the terms of the service obligation and to evaluating progress on the performance measures for the Personnel Development Program will be collected from grantees, scholars, and the scholars' employers. When OSEP, OIE, or RSA determines that a scholar will not fulfill the service obligation and must instead repay some or all of the scholarship funds disbursed to the scholar, OSEP, OIE, or RSA, respectively, will forward applicable information to the Department's Accounts Receivables and Bank Management Group in the Office of Finance and Operations.

Additionally, the Department may collect records from other persons or entities from which data is obtained under the routine uses set forth below.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. The Department may make these disclosures on a case-by-case basis, or, if the Department has complied with the computer matching requirements of the Privacy Act of 1974, as amended, under a computer matching agreement.

(1) Program Purposes. The Department may disclose records from this system of records:

(a) To the scholars' employers to verify the eligible employment of scholars who were supported by grant funding and who are fulfilling their service obligations.

(b) To the grantees for monitoring, enforcement, or technical assistance related to the scholars' employment.

(2) Disclosure in the Course of Responding to Breach of Data. The Department may disclose records to appropriate agencies, entities, and persons when (a) the Department suspects or has confirmed that there has been a breach of the system of records; (b) the Department has determined that as a result of the suspected or confirmed breach there is a risk of harm to individuals, the Department (including its information systems, programs and operations), the Federal Government, or national security; and (c) the disclosure made to such agencies, entities, and persons is reasonably necessary to assist in connection with the Department's efforts to respond to the suspected or confirmed breach or to prevent, minimize, or remedy such harm.

(3) Contract Disclosure. The Department may disclose records to employees of an entity with whom the Department contracts when disclosure is necessary for an employee of the entity to perform a function pursuant to the Department's contract with the entity. As part of such a contract, the Department shall require the contractor to agree to establish and maintain safeguards to protect the security and confidentiality of the disclosed records.

(4) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

(5) Litigation and Alternative Dispute Resolution (ADR) Disclosure.

(a) Introduction. In the event that one of the parties listed in sub-paragraphs (i) through (v) is involved in judicial or administrative litigation or ADR, or has an interest in litigation or ADR, the Department may disclose certain records to the parties described in paragraphs (b), (c), and (d) of this routine use under the conditions specified in those paragraphs:

(i) The Department or any of its components;

(ii) Any Department employee in his or her official capacity;

(iii) Any Department employee in his or her individual capacity if the U.S. Department of Justice (DOJ) has been requested to or has agreed to provide or arrange for representation for the employee;

(iv) Any Department employee in his or her individual capacity where the Department has agreed to represent the employee; or

(v) The United States where the Department determines that the litigation is likely to affect the Department or any of its components.

(b) Disclosure to DOJ. If the Department determines that disclosure of certain records to DOJ is relevant and necessary to the judicial or administrative litigation or ADR, the Department may disclose those records as a routine use to DOJ.

(c) Adjudicative Disclosure. If the Department determines that it is relevant and necessary to the judicial or administrative litigation or ADR to disclose certain records to an adjudicative body before which the Department is authorized to appear or to a person or entity designated by the Department or otherwise empowered to resolve or mediate disputes, the Department may disclose those records as a routine use to the adjudicative body, person, or entity.

(d) Disclosure to Parties, Counsel, Representatives, or Witnesses. If the Department determines that disclosure of certain records to a party, counsel, representative, or witness is relevant and necessary to the judicial or administrative litigation or ADR, the Department may disclose those records as a routine use to the party, counsel, representative, or witness.

(6) Freedom of Information Act (FOIA) and Privacy Act Advice Disclosure. The Department may disclose records to DOJ or Office of Management and Budget (OMB) if the Department concludes that disclosure is desirable or necessary in determining whether particular records are required to be disclosed under the FOIA or the Privacy Act.

(7) Disclosure to DOJ. The Department may disclose records to DOJ to the extent necessary for obtaining DOJ advice on any matter relevant to an audit, inspection, or other inquiry related to the program covered by this system.

(8) Congressional Member Disclosure. The Department may disclose the records of an individual to a member of Congress or the member's staff when necessary to respond to an inquiry from the member or the member's staff made at the written request of that individual. The member's right to the information is no greater than the right of the individual who requested the inquiry.

(9) Research Disclosure. The Department may disclose records under routine use to a researcher if an appropriate official of the Department determines that the individual or organization to which the disclosure would be made is qualified to carry out specific research related to functions or purposes of this system of records. The official may disclose records from this system of records to that researcher solely for the purpose of carrying out that research related to the functions or purposes of this system of records. The researcher shall be required to agree to establish and maintain safeguards to protect the security and confidentiality of the disclosed records.

(10) Disclosure in Assisting Another Agency in Responding to a Breach of Data. The Department may disclose records from this system to another Federal agency or Federal entity, when the Department determines that information from this system of records is reasonably necessary to assist the recipient agency or entity in (a) responding to a suspected or confirmed breach; or (b) preventing, minimizing, or remedying the risk of harm to individuals, the recipient agency or entity (including its information systems, programs, and operations), the Federal Government, or national security, resulting from a suspected or confirmed breach.

DISCLOSURE TO CONSUMER REPORTING AGENCIES:

The Department may disclose to a consumer reporting agency information regarding a claim by the Department that the head of the Department has determined to be valid and overdue. Such information is limited to—(1) the name, address, taxpayer identification number, and other information necessary to establish the identity of the individual responsible for the claim; (2) the amount, status, and history of the claim; and (3) the program under which the claim arose. The Department may disclose the information specified in this paragraph under 5 U.S.C. 552a(b)(12) and the procedures contained in 31 U.S.C. 3711(e). A consumer reporting agency to which these disclosures may be made is defined in 31 U.S.C. 3701(a)(3).

POLICIES AND PRACTICES FOR STORAGE OF RECORDS:

Westat, the Department's subcontractor through the AnLar contract, maintains hard copy records of information about OSEP, OIE and RSA scholars in locked file cabinets that are located within locked offices protected by a campus and building security system; and, maintains electronic records with information about OSEP, OIE, and RSA scholars on its secure server.

POLICIES AND PRACTICES FOR RETRIEVAL OF RECORDS:

Records in this system are indexed by a unique number assigned by the PDPDCS to each individual.

POLICIES AND PRACTICES FOR RETENTION AND DISPOSAL OF RECORDS:

These records will be maintained and disposed of in accordance with the records retention and disposition authority approved by the National Archives and Records Administration (NARA). Until NARA approves a retention and disposition schedule for these records, the Department will not destroy or delete any records.

ADMINISTRATIVE, TECHNICAL, AND PHYSICAL SAFEGUARDS:

Access to the records is limited to authorized personnel only. All physical access to the Department's site, and to the sites of the Department's contractor and subcontractor, where this system of records is maintained, is controlled and monitored by security personnel.

The computer system employed by the Department offers a high degree of resistance to tampering and circumvention. This security system limits data access to Department and contract staff on a “need to know” basis, and controls individual users' ability to access and alter records within the system. Only Contracting Officer Representatives (CORs) assigned to the PDPDCS contract by the Department have “read only” access to the PDPDCS to monitor the improvements and upgrades to the system. A limited number of contractor and subcontractor personnel have administrative rights, including read and write access, to the system.

The contractor and subcontractor established secure procedures at their sites to ensure confidentiality of data. Their systems are required to ensure that information identifying individuals is in files physically separated from other research data. The contractor and subcontractor will maintain security of the complete set of all master data files and documentation. Access to individually identifying data is strictly controlled. At each site all hard copy data is kept in locked file cabinets during nonworking hours, and work on hard copy data will take place in a single room, except for data entry. Physical security of electronic data is also maintained. Security features that protect electronic project data include: Password-protected accounts that authorize users to access only specific network directories and network software on the contractor's and subcontractor's systems; and user rights and directory and file attributes that limit those who can access particular directories and files and determine how they can edit them.

All security for the system is maintained in accordance with Moderate data sensitivity controls as defined in National Institute of Standards and Technology Special Publication 800-53 Revision 4, “Security and Privacy Controls for Federal Information Systems and Organizations.”

RECORD ACCESS PROCEDURES:

If you wish to gain access to your record in the system of records, contact the system manager at the address listed above. Requests should contain necessary particulars, such as your full name, address, telephone number, and any other identifying information requested by the Department while processing the request, to distinguish between individuals with the same name. Your request must meet the requirements of regulations in 34 CFR 5b.5, including proof of identity.

CONTESTING RECORD PROCEDURES:

If you wish to contest the content of a record regarding you in the system of records, contact the system manager at the address listed above. Requests should contain necessary particulars, such as your full name, address, telephone number, and any other identifying information requested by the Department while processing the request, to distinguish between individuals with the same name. Your request must meet the requirements of the regulations in 34 CFR 5b.7.

NOTIFICATION PROCEDURES:

If you wish to determine whether a record regarding you exists in the system of records, contact the system manager at the address listed above. Requests should contain necessary particulars, such as your full name, address, telephone number, and any other identifying information requested by the Department while processing the request, to distinguish between individuals with the same name. Your request must meet the requirements of regulations in 34 CFR 5b.5, including proof of identity.

EXEMPTIONS PROMULGATED FOR THE SYSTEM:

None.

HISTORY:

The System of Records entitled “The Special Education—Individual Reporting on Regulatory Compliance Related to the Personnel Development Program's Service Obligation and the Government Performance and Results Act of 1993 (GPRA)” (18-16-04) has only previously been published in the Federal Register on October 24, 2008 (73 FR 63453-63457).

[FR Doc. 2019-14690 Filed 7-9-19; 8:45 am]

BILLING CODE 4000-01-P